DEPARTMENT OF ENERGY

National Energy Technology Laboratory; Notice of Availability of a Financial Assistance Solicitation

AGENCY: National Energy Technology Laboratory, Department of Energy (DOE).

ACTION: Notice of availability of a Financial Assistance Solicitation.

SUMMARY: Notice is hereby given of the intent to issue Financial Assistance Solicitation No. DE-PS26-03NT41757-0 entitled, “Ground Breaking Innovative Technology Concepts For Mining.” The Department of Energy (DOE), National Energy Technology Laboratory (NETL) is seeking white paper applications on behalf of the Energy Efficiency and Renewable Energy, Mining Industries of the Future Program, for advanced concepts that span the mining industry and are capable of revolutionizing the industry as a whole or for discrete segments as regards energy intensity (i.e. energy used to achieve a unit output).

DATES: The solicitation will be available on the “Industry Interactive Procurement System” (IIPS) webpage located at http://e-center.doe.gov on or about February 14, 2003. Applicants can obtain access to the solicitation from the address above or through DOE/NETL's Web site at http://www.netl.doe.gov/business.

FOR FURTHER INFORMATION CONTACT: Juliana L. Murray, MS 921-107, U.S. Department of Energy, National Energy Technology Laboratory, 626 Cochrans Mill Road, P.O. Box 10940, Pittsburgh, PA 15236-0940, E-mail Address: murray@netl.doe.gov, Telephone Number: 412-386-4872.

SUPPLEMENTARY INFORMATION: The objective of this solicitation is to support the stated national interests by providing seed funding for development of “revolutionary” concepts or “unique” approaches that would define the direction for potential future research and development projects that address needs that broadly fall in the domestic mining industry. These approaches should represent significant departures from existing approaches, not simply incremental improvements. This solicitation seeks “out-of-the-box” thinking; therefore, mature ideas, past the conceptual stage, are not eligible for this program. Cost sharing is not required because of the fundamental nature of the requested research under this solicitation, but the DOE/NETL will only contribute up to $50,000 per project selected for award.

DOE has identified specific mining industry activities where energy efficiency improvements would have the most significant impact. This solicitation encourages prospective concepts to be developed in the following areas:

Area of Interest 1: DE-PS26-03NT41757-1

Energy Efficient Alternatives to Current Technologies in Materials Handling

Interests include energy alternatives with regard to energy use per unit of output to current technologies involving the used of equipment or processes to transport ore and waste.

Area of Interest 2: DE-PS26-03NT41757-2

Energy Efficient Alternatives to Current Beneficiation and Processing Technologies, Particularly Crushing and Grinding

Interests include energy alternatives with regard to energy use per unit of output to current technologies using equipment or processes to crush, grind, concentrate and/or separating the ore from the unwanted material.

Area of Interest 3: DE-PS26-03NT41757-3

Mineral Extraction Processes To Reduce Downstream Material Handling and

Beneficiation and Processing Requirements; Efficiency Alternatives to Pumping in Mining Applications

Interests include energy alternatives to mineral processes using equipment or processes to explore, mine and process ore.

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA on February 6, 2003.
Dale A. Siciliano, Director,
Acquisition and Assistance Division.

[FR Doc. 03-3938 Filed 2-18-03; 8:45 am]

BILLING CODE 6450-01-P